NUCLEAR REGULATORY COMMISSION

[Docket No. 50-289; NRC-2019-0079]

Exelon Generation Company LLC; Three Mile Island Nuclear Station Unit 1

AGENCY: Nuclear Regulatory Commission.

ACTION: License amendment application; withdrawal by applicant.

SUMMARY: The U.S. Nuclear Regulatory Commission (NRC) has granted the request of Exelon Generation Company, LLC to withdraw its application dated December 14, 2018, for a proposed amendment to Renewed Facility Operating License No. DPR-50 for the Three Mile Island Nuclear Station, Unit 1. The proposed amendment would have revised Technical Specification 6.8.5 “Reactor Building Leakage Rate Testing Program,” to allow for a one-cycle extension to the 10-year frequency of the containment leakage rate test (i.e., Integrated Leakage Rate Test (ILRT) or Type A test).

DATES: The withdrawal of the proposed amendment takes effect on August 20, 2019.

ADDRESSES: Please refer to Docket ID NRC-2019-0079 when contacting the NRC about the availability of information regarding this document. You may obtain publicly-available information related to this document using any of the following methods:

• Federal Rulemaking website: Go to https://www.regulations.gov and search for Docket ID NRC-2019-0079. Address questions about NRC docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Justin C. Poole, Office of Nuclear Reactor Regulation, U.S. Nuclear Regulatory Commission, Washington, DC 20555-0001; telephone: 301-415-2048, email: Justin.Poole@nrc.gov.

SUPPLEMENTARY INFORMATION: The NRC has granted the request, dated June 17, 2019 (ADAMS Accession No. ML19169A031), of Exelon Generation Company, LLC (the licensee) to withdraw its application, dated December 14, 2018 (ADAMS Accession No. ML18351A006), for proposed amendment to Renewed Facility Operating License No. DPR-50 for the Three Mile Island Nuclear Station, Unit 1, located in Dauphin County, Pennsylvania.

The amendment would have revised Technical Specification 6.8.5 “Reactor Building Leakage Rate Testing Program.” The amendment would have allowed for a one-cycle extension to the 10-year frequency of the Three Mile Island Nuclear Station, Unit 1, containment leakage rate test (i.e., ILRT or Type A test). The proposed change would have permitted the existing ILRT to be extended from 10 years to 11.75 years. This extension would have moved the performance of the next ILRT from the scheduled fall 2019 refueling outage to the fall 2021 refueling outage.

Exelon's December 14, 2018, request was noticed in the Federal Register on March 26, 2019 (84 FR 11338).

Dated at Rockville, Maryland, this 14th day of August, 2019.
For the Nuclear Regulatory Commission.
James G. Danna,
Chief, Plant Licensing Branch I, Division of Operating Reactor Licensing, Office of Nuclear Reactor Regulation.

[FR Doc. 2019-17839 Filed 8-19-19; 8:45 am]

BILLING CODE 7590-01-P